DEPARTMENT OF THE INTERIOR

Bureau of Ocean Energy Management

[Docket No. BOEM-2025-0035]

Commercial Leasing for Outer Continental Shelf Minerals Offshore American Samoa—Request for Information and Interest; Extension of Comment Period

AGENCY: Bureau of Ocean Energy Management, Interior.

ACTION: Request for information and interest; extension of the comment period.

SUMMARY: The Bureau of Ocean Energy Management (BOEM) announces a 30-day extension of the comment period for the request for information and interest (RFI) for leasing of the Outer Continental Shelf minerals in and around an area offshore American Samoa, referred to as the RFI Area.

DATES: BOEM published the RFI on June 16, 2025, and opened a public comment period through July 16, 2025. BOEM is extending this public comment period to August 15, 2025. BOEM must receive all comments, information, and indications of interest in response to this RFI no later than August 15, 2025.

ADDRESSES: Please submit indications of interest in commercial leasing electronically via email to Pacific.Region@boem.gov or by hard copy by mail to the following address: Bureau of Ocean Energy Management, Pacific Region, Office of Strategic Resources, 760 Paseo Camarillo (CM 102), Camarillo, California 93010. If you elect to mail a hard copy, also include an electronic copy on a portable storage device. Do not submit indications of interest via the Federal eRulemaking Portal.

Please submit all other comments and information as discussed in section 6 of the June 16, 2025, RFI entitled, “Types of Information and Comments Requested,” by either of the following two methods:

1. Federal eRulemaking Portal: http://www.regulations.gov. In the search box at the top of the web page, enter BOEM-2025-0035 and then click “search.” Follow the instructions to submit public comments and to view supporting and related materials.

2. By mail to the following address: Bureau of Ocean Energy Management, Pacific Region, Office of Strategic Resources, 760 Paseo Camarillo (CM 102), Camarillo, California 93010.

Treatment of confidential information is addressed in section 8 of the June 16, 2025, RFI entitled, “Protection of Privileged, Personal, or Confidential Information.” BOEM will post all comments received on regulations.gov unless labeled as confidential and BOEM determines that an exemption from disclosure applies.

FOR FURTHER INFORMATION CONTACT: Jennifer Miller, Bureau of Ocean Energy Management, Pacific Region, Office of Strategic Resources, 760 Paseo Camarillo (CM 102), Camarillo, California 93010, at Pacific.Region@boem.gov or (805) 384-6305.

SUPPLEMENTARY INFORMATION: Comments already submitted for the June 16, 2025, RFI do not need to be resubmitted. Please refer to the RFI published in the Federal Register (90 FR 25369) on June 16, 2025, for more information.

Authority: 43 U.S.C. 1337(k)(1) and 30 CFR 581.12.

Matthew Giacona,
Principal Deputy Director, Bureau of Ocean Energy Management.

[FR Doc. 2025-13280 Filed 7-15-25; 8:45 am]

BILLING CODE 4340-38-P